ELECTION ASSISTANCE COMMISSION

Sunshine Act Notice

AGENCY: United States Election Assistance Commission.

ACTION: Notice of public hearing agenda.

Date & Time: Thursday, June 30, 2005, 11 a.m.-5 p.m.

Place: New York Marriott Marquis, 1535 Broadway, New York, NY 10036; (212) 398-1900. (Metro Stop: MTA 42nd Street.)

Agenda: The Commission will conduct a public hearing on the proposed voluntary voting system guidelines. The Commission will receive presentations regarding the proposed guidelines from representatives of testing laboratories and equipment vendors. The Commission will also hear comments specifically related to the Voter Verifiable Paper Audit Trail (VVPAT) testing guidelines from state and local elections officials whose state law requires VVPAT, academics and advocates.

EAC will provide a public comment period to receive comments from the public regarding the voluntary voting system guidelines. Members of the public who wish to speak should contact EAC via e-mail at testimony@eac.gov, or via mail addressed to the U.S. Election Assistance Commission 1225 New York Ave, NW., Suite 1100, Washington, DC 20005, or by fax at 202/566-3127. Comments will be strictly limited to 3 minutes per person or organization to assure that all constituent or stakeholder groups are represented. All speakers will be contacted prior to the hearing. EAC also encourages members of the public to submit written testimony via e-mail, mail or fax. All public comments will be taken in writing via e-mail at testimony@eac.gov, or via mail addressed to the U.S. Election Assistance Commission 1225 New York Ave, NW., Suite 1100, Washington, DC 20005, or by fax at 202/566-3127.

This hearing will be open to the public.

Person to Contact for Information: Bryan Whitener. Telephone: (202) 566-3100.

Carol A. Paquette,
Interim Executive Director, U.S. Election Assistance Commission.

[FR Doc. 05-11934 Filed 6-13-05; 4:02 pm]

BILLING CODE 6820-KF-M